DEPARTMENT OF THE INTERIOR

Geological Survey

Bird Banding Laboratory Advisory Committee

AGENCY: U.S. Geological Survey.

ACTION: Notice of meeting.

SUMMARY: The next meeting of the Advisory Committee on the Bird Banding Laboratory (Committee) will take place November 7 and 8, 2006, at the Red Lion Hotel, 3500 NE Cornell Road, Hillsboro, Oregon 97124. The meeting runs from 8:30 a.m. to 4:30 p.m. each day. The purpose of the Advisory Committee, which is co-chaired by the USGS and the U.S. Fish and Wildlife Service, is to represent the interests of the bird banding community, including both game and non-game birds, in advising the U.S. Department of the Interior and the USGS on current and future management of the Bird Banding Laboratory (BBL). The agenda for this meeting will focus on finalizing the draft report, including numerous recommendations for improving the BBL's business operations and its level of customer service, begun with the Committee's first meeting in November, 2005.

The meeting is open to all members of the interested public, and time on the agenda has been reserved at the conclusion of each day's work for the Committee to receive verbal comments (limited to 5 minutes per person) from the public. To speak before the Committee, please register in advance with Mr. Daniel James (see contact information below), the USGS Designated Federal Official (DFO) for the Committee).

FOR FURTHER INFORMATION CONTACT: Daniel L. James, 12201 Sunrise Valley Drive, MS 301, Reston, Virginia 20192; 703-648-4253, e-mail: dan_james@usgs.gov.

Dated: October 10, 2006.
Susan D. Haseltine,
Associate Director for Biology.

[FR Doc. 06-8668 Filed 10-13-06; 8:45 am]

BILLING CODE 4311-AM-M